DEPARTMENT OF ENERGY

Office of Energy Efficiency and Renewable Energy

[Docket No. EERE-2007-BT-CRT-0009]

Agency Information Collection Extension: Energy Conservation Program: Compliance and Certification Information Collection for Electric Motors

AGENCY: Department of Energy.

ACTION: Notice and request for comments.

SUMMARY: The Department of Energy (DOE), pursuant to the Paperwork Reduction Act of 1995, intends to extend for three years, through the Office of Management and Budget (OMB), the mandatory Compliance Certification information collection package for certain 1 through 200 horsepower electric motors covered under the Energy Policy and Conservation Act, Public Law 94-163, as amended (EPCA); whereby, a manufacturer or private labeler reports on and certifies its compliance with energy efficiency standards for commercial and industrial electric motors covered under Title 10, Code of Federal Regulations, Part 431 (10 CFR Part 431)—Energy Efficiency Program for Certain Commercial and Industrial Equipment: Appendix C to Subpart B of Part 431: Certification of Compliance with Energy Efficiency Standards for Electric Motors.

DATES: Comments regarding this collection must be received on or before November 19, 2007. If you anticipate that you will be submitting comments, but find it difficult to do so within the period of time allowed by this notice, please advise the OMB Desk Officer of your intention to make a submission as soon as possible. The Desk Officer may be telephoned at (202) 395-4650.

ADDRESSES: Written comments should be sent to: Desk Officer, Office of Information and Regulatory Affairs, Office of Management and Budget, New Executive Office Building, Room 10102, 725 17th Street, NW., Washington, DC 20503.

Also, comments should also be addressed to: Mr. James D. Raba, Building Technologies Program, EE-2J, Energy Efficiency and Renewable Energy, U.S. Department of Energy, 1000 Independence Ave, SW., Washington, DC 20585-0121, or by fax at (202) 586-4617, or by e-mail at jim.raba@ee.doe.gov.

Any comments submitted must identify the information collection for electric motors, and provide the docket number EERE-2007-BT-CRT-0009. Comments may be submitted using any of the following methods:

• Federal eRulemaking Portal: http://www.regulations.gov. Follow the instructions for submitting comments.

E-mail: appliance.information@ee.doe.gov. Include the docket number in the subject line of your message.

• Postal Mail: Ms. Brenda Edwards-Jones, U.S. Department of Energy, Building Technologies Program, Mailstop EE-2J, 1000 Independence Avenue, SW., Washington, DC 20585-0121. Telephone: (202) 586-2945. Please submit one signed paper original.

• Hand Delivery/Courier: Ms. Brenda Edwards-Jones, U.S. Department of Energy, Building Technologies Program, Room 1J-018, 1000 Independence Avenue, SW., Washington, DC 20585-0121. Please submit one signed original paper copy.

Docket: For access to the docket to read background documents or comments received, go to the U.S. Department of Energy, Forrestal Building, Room 1J-018 (Resource Room of the Building Technologies Program), 1000 Independence Avenue, SW., Washington, DC, (202) 586-2945, between 9 a.m. and 4 p.m., Monday through Friday, except Federal holidays. Please call Ms. Brenda Edwards-Jones at the above telephone number for additional information regarding visiting the Resource Room. Please note: DOE's Freedom of Information Reading Room (Room 1E-190 at the Forrestal Building) no longer houses rulemaking materials.

FOR FURTHER INFORMATION CONTACT: Requests for additional information or copies of the information collection instrument and instructions should be directed to James Raba , U.S. Department of Energy, Office of Energy Efficiency and Renewable Energy, Building Technologies Program, EE-2J, 1000 Independence Avenue, SW., Washington, DC 20585-0121, telephone (202) 586-8654. E-mail: jim.raba@ee.doe.gov.

Authority and Background

Part C of Title III of the Energy Policy and Conservation Act, as amended, 42 U.S.C. 6291 et seq., (EPCA) establishes energy efficiency standards and test procedures for certain industrial equipment, including electric motors. Further, EPCA states that, “the Secretary [of Energy] shall require manufacturers to certify” that each electric motor meets the applicable efficiency standards. 42 U.S.C. 6316(c). EPCA authorizes the Secretary to carry out this requirement, in part, by issuing the necessary rules requiring each manufacturer or private labeler of covered electric motors to submit information and reports to ensure compliance. 42 U.S.C. 6316(a). This directive is carried out under 10 CFR 431.36, Compliance Certification, which requires a manufacturer or private labeler to submit a compliance statement, as well as a certification report that provides energy efficiency information for each basic model of electric motor that it distributes in commerce in the United States.

The compliance certification information collection request, at appendix C to subpart B of 10 CFR Part 431, provides a format for a manufacturer or private labeler to certify compliance with the applicable energy efficiency standards prescribed under section 342(b)(1) of EPCA, 42 U.S.C. 6313(b)(1), through an independent testing or certification program nationally recognized in the United States (EPCA 345(c), 42 U.S.C. 6316(c)). Compliance Certification information is used by DOE and United States Customs Service officials and facilitates voluntary compliance with and enforcement of the energy efficiency standards established for electric motors under EPCA 342(b)(1), 42 U.S.C. 6313(b)(1).

SUPPLEMENTARY INFORMATION: Today's notice and information collection request pertains: (1) OMB No.: 1910-5104. (2) Collection Title: Title 10 Code of Federal Regulations Part 431—Energy Efficiency Program for Certain Commercial and Industrial Equipment: Subpart B—Electric Motors: Appendix C to Subpart B of Part 431—Compliance Certification. (3) Type of Review: Renewal. (4) Purpose: Regulations that, in part, (1) Require the manufacturer of private labeler of certain commercial or industrial electric motors subject to energy efficiency standards prescribed under section 342(b) of EPCA to establish, maintain, and retain records of its test data and subsequent verification of any alternative efficiency determination method used under Part 431, and (2) preclude distribution in commerce of any basic model of commercial or industrial electric motor which is subject to an energy efficiency standard set forth under subpart B of Part 431, unless it has submitted a Compliance Certification to DOE according to the provisions under 10 CFR 431.36, that the basic model meets the requirements of the applicable standard. This collection of information ensures compliance with the energy efficiency for certain commercial and industrial electric motors. (5) Estimated Number of Respondents: 84. (6) Estimated Total Burden Hours: 25,200 total hours requested (approximately 300 hours per manufacturer or private labeler). (7) Number of Collections: The package contains one information and recordkeeping requirement.

Comments are invited on: (a) Whether the information collections are necessary for the proper performance of the functions of the DOE, including whether the information has practical utility; (b) the accuracy of the DOE's estimate of the burden of the information collections, including the validity of the methodology and assumptions used; (c) ways to enhance the quality, utility, and clarity of the information to be collected; and (d) ways to minimize the burden of the information collections on respondents, including through the use of automated collection techniques or other forms of information technology.

Comments submitted in response to this notice will be summarized and included in the request for OMB review and approval of these information collections. The comments will also become a matter of public record.

Statutory Authority: Section 3507(h)(1) of the Paperwork Reduction Act of 1995 (Pub. L. 104-13, 44 U.S.C. Chapter 35).

Issued in Washington, DC on September 4, 2007.
Alexander A. Karsner,
Assistant Secretary, Energy Efficiency and Renewable Energy.

[FR Doc. E7-18275 Filed 9-17-07; 8:45 am]

BILLING CODE 6450-01-P